DEPARTMENT OF TRANSPORTATION

Federal Motor Carrier Safety Administration

49 CFR Parts 350, 390, 394, 395, and 398

[Docket No. FMCSA-97-2350]

RIN 2126-AA23

Public Hearing on Hours of Service of Drivers; Driver Rest and Sleep for Safe Operations

AGENCY: Federal Motor Carrier Safety Administration (FMCSA), DOT.

ACTION: Notice of hearings.

SUMMARY: The FMCSA is announcing the first of seven public hearings for interested persons to present comments and views on the FMCSA's proposed revisions to its hours-of-service regulations (65 FR 25540, May 2, 2000). This action is necessary to inform the public about the date, time, and structure of the first hearing. The FMCSA hopes to hear from the public about how the proposed hours-of-service regulations would improve highway safety, affect the personal, professional, and family life of commercial vehicle drivers, and the impact on the various segments of the motor carrier industry. All oral comments will be transcribed and placed in the rulemaking docket for the FMCSA's consideration.

DATES: The first of seven sessions will be held on Wednesday May 31 and Thursday June 1, 2000, beginning at 8:30 a.m. and ending at 5 p.m. The dates and times for sessions 2 through 7 will be announced in the near future.

ADDRESSES: The first session will be held at the DOT Headquarters building, Room 2230, 400 Seventh Street, SW., Washington, DC 20590-0001. The locations for sessions 2 through 7 will be held at sites convenient for truck and motor coach parking in Atlanta, GA; Denver, CO; Los Angeles, CA; Indianapolis, IN; Kansas City, MO; and the Springfield, MA/Hartford, CT area.

FOR FURTHER INFORMATION CONTACT: General Information. To request time to be heard at the Washington, D.C. hearing and for other general information about all the sessions contact Mr. Stanley Hamilton, Office of Regulatory Development, (202) 366-0665. Specific Information. For information concerning the rulemaking contact Mr. David Miller, Office of Driver and Carrier Operations, (202) 366-1790, or Mr. Charles Medalen, Office of the Chief Counsel, (202) 366-1354.

SUPPLEMENTARY INFORMATION:

Electronic Access

Internet users may access all comments received by the U.S. DOT Dockets, Room PL-401, by using the universal resource locator (URL): http://dms.dot.gov. It is available 24 hours each day, 365 days each year. Please follow the instructions online for more information and help.

An electronic copy of this document may be downloaded by using a computer, modem and suitable communications software from the Government Printing Office's Electronic Bulletin Board Service at (202) 512-1661. Internet users may reach the Office of the Federal Register's web page at http://www.access.gpo.gov/nara. Internet users may also find this document at the FMCSA's Motor Carrier Regulatory Information Service (MCREGIS) web site for notices at http://www.fmcsa.dot.gov/rulesregs/fmcsr/rulemakings.htm.

Background

Structure of Washington Hearing

Speakers must limit their oral presentations to no more than 10 minutes duration. Presenters may submit additional written documentation to be placed in the public docket.

The public hearing will be subdivided and the FMCSA will seek comments on specific topics during the prescribed time period, as follows:

Day One

1. Opening remarks—8:30 a.m.

2. Supportive science—8:45 a.m. to 3 p.m., with general comments about any subject from 3:15 to 4:30 p.m.

Day Two

3. Daily cycle (18, 24, other) and weekly cycle (7-day, 168-hour, other)—8:30 a.m. to 10:30 a.m.

4. Minimum rest period to recover from cumulative multi-day fatigue—10:45 a.m. to noon.

5. Work-rest requirements for various types of operations—1 to 2 p.m.

6. Information collection methods and requirements, including electronic on-board recorders and Department of Labor time records—2 to 3 p.m.

7. General comments—3:15 to 4:30 p.m.

Washington Participants

All persons who would like to present comments must notify Mr. Stan Hamilton by telephone at (202) 366-0665 by 4 p.m. e.t., no later than May 26, 2000. All persons attending will be subject to Federal and DOT workplace security measures. All persons will need photo identification and must display the identification to DOT security officers. All persons will be required to sign in at the guard's desk, walk through metal detectors, and be subject to random search. All visitors will be required to wear a “Visitor” tag at all times while in the building. Persons failing to satisfy security requirements will be denied entry and forfeit their opportunity to participate in the hearing. Such persons may, however, submit their written comments by the close of business on July 31, 2000, to the Docket Clerk, U.S. DOT Dockets, Room PL-401, 400 Seventh Street, SW., Washington, DC 20950-0001.

Authority: 49 U.S.C. 322, 31502, and 31136; and 49 CFR 1.73.

Issued on: May 2, 2000.
Brian M. McLaughlin,
Director, Office of Policy Plans and Regulations.

[FR Doc. 00-11334 Filed 5-4-00; 8:45 am]

BILLING CODE 4910-22-P